NUCLEAR REGULATORY COMMISSION

[Docket No. 72-1]

Notice of Issuance of Amendment to Materials License SNM-2500, General Electric Morris Operation Docket No. 72-1

AGENCY: Nuclear Regulatory Commission.

ACTION: Notice of issuance of license amendment.

FOR FURTHER INFORMATION CONTACT: Christopher M. Regan, Senior Project Manager, Spent Fuel Project Office, Office of Nuclear Material Safety and Safeguards, U.S. Nuclear Regulatory Commission, Washington, DC 20555. Telephone: (301) 415-1179; fax number: (301) 415-8555; e-mail: cmr1@nrc.gov.

SUPPLEMENTARY INFORMATION:

I. Introduction

The U.S. Nuclear Regulatory Commission (NRC or the Commission) has issued Amendment 12 to Special Nuclear Materials License No. SNM-2500 held by the General Electric Company (GE) for the possession, storage, and transfer of spent fuel at the Morris Operation Independent Spent Fuel Storage Installation (ISFSI), located in Grundy County, Illinois. The amendment is effective as of the date of issuance.

II. Background

By application dated July 30, 2004, as supplemented August 9, 2004, GE requested an amendment to revise the license (SNM-2500) and the Technical Specifications (TS) of SNM-2500 for the Morris Operation ISFSI. The changes would be made to reflect the current condition of the fuel stored and only that equipment necessary for its safe storage. The major changes include revisions to information regarding the spent fuel inventory, deletion of the requirement for ventilation exhaust vacuum, deletion of the requirement to have certain instrumentation operative for equipment that is no longer in service, a change in the methods to verify pool water quality, revision to the description of the company organization, and removal of “receipt” from the license which effectively will not permit the Morris Operation ISFSI to accept shipment of any additional spent fuel.

III. Finding

This amendment complies with the standards and requirements of the Atomic Energy Act of 1954, as amended (the Act), and the Commission's rules and regulations. The Commission has made appropriate findings as required by the Act and the Commission's rules and regulations in 10 CFR Chapter I, which are set forth in the license amendment. This amendment satisfied the criteria specified in 10 CFR 51.22(c)(11) for a categorical exclusion from the requirements to perform an environmental assessment or to prepare an environmental impact statement.

IV. Hearing

In accordance with 10 CFR 72.46(b)(2), a determination has been made that the amendment does not present a genuine issue as to whether public health and safety will be significantly affected. Therefore, the publication of a notice of proposed action and an opportunity for hearing or a notice of hearing is not warranted. Notice is hereby given of the right of interested persons to request a hearing on whether the action should be rescinded or modified.

Further Information: As of October 25, 2004, the NRC initiated an additional security review of publicly available documents to ensure that potentially sensitive information is removed from the Agencywide Documents Access and Management System (ADAMS) database accessible through the NRC's Web site. Interested members of the public should check the NRC's Web pages for updates on the availability of documents through the ADAMS system. Copies of the referenced documents are available for review and/or copying at the NRC Public Document Room after resumption of public access to ADAMS. The NRC Public Document Room (PDR) Reference staff can be contacted at 1-800-397-4209, 301-415-4737 or by e-mail to pdr@nrc.gov.

Dated at Rockville, Maryland, this 21st day of December 2004.
For the Nuclear Regulatory Commission.
Christopher M. Regan,
Senior Project Manager, Licensing Section, Spent Fuel Project Office, Office of Nuclear Material Safety and Safeguards.

[FR Doc. 05-150 Filed 1-4-05; 8:45 am]

BILLING CODE 7590-01-P